DEPARTMENT OF THE INTERIOR

Bureau of Land Management

[LLWY922000-L13200000-EL0000]

Notice of Public Meeting; Powder River Regional Coal Team Activities

AGENCY: Bureau of Land Management, Interior.

ACTION: Notice of public meeting.

SUMMARY: The Powder River Basin Regional Coal Team will meet as indicated below to review coal management activities in the Powder River Coal Production Region (PRCPR).

DATES: The meeting begins at 9 a.m., Wednesday, January 27, 2016.

ADDRESSES: The meeting will be held at the Wyoming Oil and Gas Conservation Commission Hearing Room, 2211 King Boulevard, Casper, Wyoming.

FOR FURTHER INFORMATION CONTACT: Wendi Stephens, Coal Coordinator, BLM Wyoming State Office, Division of Minerals and Lands, 5353 Yellowstone Road, Cheyenne, Wyoming 82009, telephone 307-775-6206; or Greg Fesko, Coal Coordinator, BLM Montana State Office, Division of Resources, 5001 Southgate Drive, Billings, Montana 59101, telephone 406-896-5080. Persons who use a telecommunications device for the deaf may call the Federal Information Relay Service (FIRS) at 1-800-877-8339 to contact the above individual during normal business hours. The FIRS is available 24 hours a day, 7 days a week, to leave a message or question with the above individual. You will receive a reply during normal business hours.

SUPPLEMENTARY INFORMATION: The purpose of the meeting is to discuss progress in processing pending coal lease by applications (LBAs), to vote on processing the West Antelope III Tract LBA in the PRCPR and the Decker South Extension Tract LBA in the PRCPR, and to discuss other Federal coal-related actions in the region. The West Antelope III LBA Tract is adjacent to the Antelope Mine located in Campbell and Converse counties, Wyoming, and lies within T 41 N, R 71 W, sections 8, 9, 10, 17, 19, 20, 29, and 30. This LBA covers approximately 3,508.31 acres and contains an estimated 441 million tons of federal coal. The Decker South Extension LBA Tract is adjacent to the West Decker Mine located in Big Horn County, Montana, and lies within T 9 S, R 39 E, sections 13, 14, 23, 24, and 25 and within T 9 S, R 40 E, sections 19, 20, and 30. This LBA covers approximately 2,389.95 acres and contains an estimated 203 million tons of federal coal. Other agenda topics include, but are not limited to: coal activity; a coal inventory presentation; an update on BLM land use planning efforts; and a discussion updating the data adequacy standards for the PRCPR. The RCT may also consider other coal-related issues that may arise prior to the meeting and generate recommendations on any of those topics.

A public comment period will take place after all other agenda items are concluded, serving as a forum for public discussion on Federal coal management issues of concern in the PRCPR. Depending on the number of persons wishing to comment and time available, the time for individual oral comments may be limited. If there are no members of the public interested in speaking, the meeting will be adjourned. The public may submit written comments to the RCT by mailing the State Director (922), BLM Wyoming State Office, 5353 Yellowstone Road, Cheyenne, WY 82009. Written comments must be received by January 13, 2016.

Dated: December 10, 2015.
Mary Jo Rugwell,
State Director (acting).

[FR Doc. 2015-31596 Filed 12-15-15; 8:45 am]

BILLING CODE 4310-22-P